DEPARTMENT OF STATE

[Public Notice: 10179]

Defense Trade Advisory Group

ACTION: Notice of open meeting.

The Defense Trade Advisory Group (DTAG) will meet in open session from 1:00 p.m. until 5:00 p.m. on Thursday, December 7, 2017 at 1777 F Street NW., Washington DC, 20006. Entry and registration will begin at 12:30 p.m. The membership of this advisory committee consists of private sector defense trade representatives, appointed by the Assistant Secretary of State for Political-Military Affairs, who advise the Department on policies, regulations, and technical issues affecting defense trade. The purpose of the meeting will be to discuss current defense trade issues and topics for further study. The following agenda topics will be discussed and final reports presented: (1) One-Form electronic filing, review and discuss recommendations for making electronic filing more cost-effective and efficient for industry; (2) Identify key areas of concern with the proposed definition for defense services; (3) Review and provide feedback to assist in accurately and effectively defining “manufacturing” and distinguishing it from other related activities like assembly, integration, installment and various services; and (4) Examine and discuss the current rules regarding the release of technical data to foreign dual-nationals and identify alternative options that sufficiently facilitate risk assessment and risk mitigation.

Members of the public may attend this open session and will be permitted to participate in the discussion in accordance with the Chair's instructions. Members of the public may, if they wish, submit a brief statement to the committee in writing.

As seating is limited to 125 persons, each member of the public or DTAG member that wishes to attend this plenary session should provide: his/her name and contact information such as email address and/or phone number and any request for reasonable accommodation to the DTAG Alternate Designated Federal Officer (DFO), Anthony Dearth, via email at DTAG@state.gov by COB Monday, November 27, 2017. If notified after this date, the Department might be unable to accommodate requests due to requirements at the meeting location. One of the following forms of valid photo identification will be required for admission to the meeting: U.S. driver's license, passport, U.S. Government ID or other valid photo ID.

FOR FURTHER INFORMATION CONTACT: Ms. Glennis Gross-Peyton, PM/DDTC, SA-1, 12th Floor, Directorate of Defense Trade Controls, Bureau of Political-Military Affairs, U.S. Department of State, Washington, DC 20522-0112; telephone (202) 663-2862; FAX (202) 261-8199; or email DTAG@state.gov.

Brian H. Nilsson,
Designated Federal Officer, Defense Trade Advisory Group, Department of State.

[FR Doc. 2017-23931 Filed 11-2-17; 8:45 am]

BILLING CODE 4710-25-P